DEPARTMENT OF THE INTERIOR

Fish and Wildlife Service

50 CFR Part 17

[FF09E21000 FXES11110900000212]

Endangered and Threatened Wildlife and Plants; 90-Day Findings for Three Species

AGENCY: Fish and Wildlife Service, Interior.

ACTION: Notification of petition findings and initiation of status reviews.

SUMMARY: We, the U.S. Fish and Wildlife Service (Service), announce 90-day findings on two petitions to add species to the Lists of Endangered and Threatened Wildlife and Plants and one petition to remove a species (“delist”) under the Endangered Species Act of 1973, as amended (Act). Based on our review, we find that the petitions to list the Alexander Archipelago wolf (Canis lupus ligoni) and western ridged mussel (Gonidea angulata) present substantial scientific or commercial information indicating that the petitioned actions may be warranted. Therefore, with the publication of this document, we announce that we plan to initiate status reviews of these species to determine whether the petitioned actions are warranted. We find that the petition to delist the golden-cheeked warbler (Dendroica chrysoparia) does not present substantial scientific or commercial information indicating the petitioned action may be warranted. Therefore, we are not initiating a status review of the species. To ensure that the status reviews are comprehensive, we are requesting scientific and commercial data and other information regarding the species and factors that may affect their status. Based on the status reviews, we will issue 12-month petition findings, which will address whether or not the petitioned actions are warranted, in accordance with the Act.

DATES: These findings were made on July 27, 2021. As we commence our status reviews, we seek any new information concerning the status of, or threats to, the species or their habitats. Any information we receive during the course of our status reviews will be considered.

ADDRESSES:

Supporting documents: Summaries of the basis for the petition findings contained in this document are available on http://www.regulations.gov under the appropriate docket number (see table under SUPPLEMENTARY INFORMATION). In addition, this supporting information is available by contacting the appropriate person, as specified in FOR FURTHER INFORMATION CONTACT.

Status reviews: If you have new scientific or commercial data or other information concerning the status of, or threats to, the species for which we are initiating status reviews, please provide those data or information by one of the following methods:

(1) Electronically: Go to the Federal eRulemaking Portal: http://www.regulations.gov. In the Search box, enter the appropriate docket number (see table under SUPPLEMENTARY INFORMATION). Then, click on the “Search” button. After finding the correct document, you may submit information by clicking on “Comment Now!” If your information will fit in the provided comment box, please use this feature of http://www.regulations.gov, as it is most compatible with our information review procedures. If you attach your information as a separate document, our preferred file format is Microsoft Word. If you attach multiple comments (such as form letters), our preferred format is a spreadsheet in Microsoft Excel.

(2) By hard copy: Submit by U.S. mail to: Public Comments Processing, Attn: [Insert appropriate docket number; see table under SUPPLEMENTARY INFORMATION], U.S. Fish and Wildlife Service, MS: PRB/3W, 5275 Leesburg Pike, Falls Church, VA 22041-3803.

We request that you send information only by the methods described above. We will post all information we receive on http://www.regulations.gov. This generally means that we will post any personal information you provide us.

FOR FURTHER INFORMATION CONTACT:

Species common name | Contact person
Alexander Archipelago wolf | Douglass Cooper, Ecological Services Branch Chief, Anchorage Fish and Wildlife Conservation Office, 907-271-1467, Douglass_Cooper@fws.gov.
Golden-cheeked warbler | Adam Zerrener, Field Supervisor, Austin Ecological Services Field Office, 512-490-0057 x248, Adam_Zerrenner@fws.gov.
Western ridged mussel | Paul Henson, State Supervisor, Portland Ecological Services Field Office, 503-231-6179, paul_henson@fws.gov.

If you use a telecommunications device for the deaf, please call the Federal Relay Service at 800-877-8339.

SUPPLEMENTARY INFORMATION:

Background

Section 4 of the Act (16 U.S.C. 1533) and its implementing regulations in title 50 of the Code of Federal Regulations (50 CFR part 424) set forth the procedures for adding species to, removing species from, or reclassifying species on the Federal Lists of Endangered and Threatened Wildlife and Plants (Lists or List) in 50 CFR part 17. Section 4(b)(3)(A) of the Act requires that we make a finding on whether a petition to add a species to the List (i.e., “list” a species), remove a species from the List (i.e., “delist” a species), or change a listed species' status from endangered to threatened or from threatened to endangered (i.e., “reclassify” a species) presents substantial scientific or commercial information indicating that the petitioned action may be warranted. To the maximum extent practicable, we are to make this finding within 90 days of our receipt of the petition and publish the finding promptly in the Federal Register.

Our regulations establish that substantial scientific or commercial information with regard to a 90-day petition finding refers to credible scientific or commercial information in support of the petition's claims such that a reasonable person conducting an impartial scientific review would conclude that the action proposed in the petition may be warranted (50 CFR 424.14(h)(1)(i); before 2016, 50 CFR 424.14(b)).

A species may be determined to be an endangered species or a threatened species because of one or more of the five factors described in section 4(a)(1) of the Act (16 U.S.C. 1533(a)(1)). The five factors are:

(a) The present or threatened destruction, modification, or curtailment of its habitat or range (Factor A);

(b) Overutilization for commercial, recreational, scientific, or educational purposes (Factor B);

(c) Disease or predation (Factor C);

(d) The inadequacy of existing regulatory mechanisms (Factor D); and

(e) Other natural or manmade factors affecting its continued existence (Factor E).

These factors represent broad categories of natural or human-caused actions or conditions that could have an effect on a species' continued existence. In evaluating these actions and conditions, we look for those that may have a negative effect on individuals of the species, as well as other actions or conditions that may ameliorate any negative effects or may have positive effects.

We use the term “threat” to refer in general to actions or conditions that are known to, or are reasonably likely to, affect individuals of a species negatively. The term “threat” includes actions or conditions that have a direct impact on individuals (direct impacts), as well as those that affect individuals through alteration of their habitat or required resources (stressors). The term “threat” may encompass—either together or separately—the source of the action or condition, or the action or condition itself. However, the mere identification of any threat(s) may not be sufficient to compel a finding that the information in the petition is substantial information indicating that the petitioned action may be warranted. The information presented in the petition must include evidence sufficient to suggest that these threats may be affecting the species to the point that the species may meet the definition of an endangered species or threatened species under the Act.

If we find that a petition presents such information, our subsequent status review will evaluate all identified threats by considering the individual-, population-, and species-level effects and the expected response by the species. We will evaluate individual threats and their expected effects on the species, then analyze the cumulative effect of the threats on the species as a whole. We also consider the cumulative effect of the threats in light of those actions and conditions that are expected to have positive effects on the species—such as any existing regulatory mechanisms or conservation efforts that may ameliorate threats. It is only after conducting this cumulative analysis of threats and the actions that may ameliorate them, and the expected effect on the species now and in the foreseeable future, that we can determine whether the species meets the definition of an endangered species or threatened species under the Act.

If we find that a petition presents substantial scientific or commercial information indicating that the petitioned action may be warranted, the Act requires that we promptly commence a review of the status of the species, and we will subsequently complete a status review in accordance with our prioritization methodology for 12-month findings (81 FR 49248; July 27, 2016).

Summaries of Petition Findings

The petition findings contained in this document are listed in the table below, and the basis for each finding, along with supporting information, is available on http://www.regulations.gov under the appropriate docket number.

Table—Status Reviews
Common name | Docket No. | URL to docket on http://www.regulations.gov
Alexander Archipelago wolf | FWS-R7-ES-2020-0147 | https://www.regulations.gov/docket?D=FWS-R7-ES-2020-0147
Golden-cheeked warbler | FWS-R2-ES-2016-0062 | https://www.regulations.gov/docket?D=FWS-R2-ES-2016-0062
Western ridged mussel | FWS-R1-ES-2020-0150 | https://www.regulations.gov/docket?D=FWS-R1-ES-2020-0150

Evaluation of a Petition To List Alexander Archipelago Wolf

Species and Range

Alexander Archipelago wolf (Canis lupus ligoni); Alaska and Canada.

Petition History

We received a petition on July 15, 2020, dated the same, from the Center for Biological Diversity, Alaska Rainforest Defenders, and Defenders of Wildlife, requesting that we list the Alexander Archipelago wolf as an endangered species or a threatened species and designate critical habitat for this species under the Act. The petition clearly identified itself as such and included the requisite identification information for the petitioner, required at 50 CFR 424.14(c). This finding addresses the petition.

Finding

Based on our review of the petition and sources cited in the petition, we find that the petition presents substantial scientific or commercial information indicating the petitioned action may be warranted for the Alexander Archipelago wolf due to potential threats associated with the following: Logging and road development (Factor A); illegal and legal trapping and hunting (Factor B); the effects of climate change (Factor E); and loss of genetic diversity and inbreeding depression (Factor E).

The basis for our finding on this petition, and other information regarding our review of the petition, can be found as an appendix at http://www.regulations.gov under Docket No. FWS-R7-ES-2020-0147 under the Supporting Documents section.

Evaluation of a Petition To Delist Golden-Cheeked Warbler

Species and Range

Golden-cheeked warbler (Dendroica chrysoparia = Setophaga chrysoparia); Texas, Mexico (Chiapas), and Central America (Guatemala, Honduras, Nicaragua, and El Salvador).

Petition History

On December 27, 1990, the Service published in the Federal Register (55 FR 53153) a final rule to list the golden-cheeked warbler as an endangered species. On June 30, 2015, we received a petition dated June 29, 2015, from Nancie G. Marzulla (Marzulla Law, LLC—Washington, DC) and Robert Henneke (Texas Public Policy Foundation—Austin, TX) requesting that we remove the golden-cheeked warbler from the Federal List of Endangered and Threatened Wildlife (“delist” the species) due to recovery or error in information. The petition clearly identified itself as such and included the requisite identification information for the petitioner, required at now 50 CFR 424.14(c) (before 2016, 50 CFR 424.14(a)).

On December 11, 2015, we received supplemental information from the petitioners that included additional published studies and an unpublished report. These studies, as well as others known to the Service and in our files at the time the supplement was received, were considered, as appropriate. On June 3, 2016, we published in the Federal Register (81 FR 35698) our finding that the petition did not provide substantial scientific or commercial information indicating that the petition action may be warranted.

The General Land Office of Texas (GLO) challenged our June 3, 2016, negative 90-day finding on the petition to delist. The District Court found in favor of the Service. The GLO appealed the June 3, 2016, 90-day finding that decision, and the Circuit Court vacated and remanded it to the Service. This finding addresses the petition in response to the court's decision.

Finding

Based on our review of the petition and sources cited in the petition, we find that the petition does not present substantial scientific or commercial information indicating the petitioned action may be warranted for the golden-cheeked warbler. Because the petition does not present substantial information indicating that delisting the golden-cheeked warbler may be warranted, we are not initiating a status review of this species in response to this petition. However, we ask that the public submit to us any new information that becomes available concerning the status of, or threats to, this species or its habitat at any time by contacting the appropriate person listed under FOR FURTHER INFORMATION CONTACT, above.

The basis for our finding on this petition, and other information regarding our review of the petition, can be found as an appendix at http://www.regulations.gov under Docket No. FWS-R2-ES-2016-0062 under the Supporting Documents section.

Evaluation of a Petition To List Western Ridged Mussel

Species and Range

Western ridged mussel (Gonidea angulata); California, Oregon, Washington, Idaho, Nevada, and the Canadian Province of British Columbia.

Petition History

On August 21, 2020, we received a petition dated August 18, 2020, from the Xerces Society for Invertebrate Conservation, requesting that we list the western ridged mussel as an endangered species and designate critical habitat for this species under the Act. The petition clearly identified itself as such and included the requisite identification information for the petitioner, required at 50 CFR 424.14(c).

Finding

Based on our review of the petition and sources cited in the petition, we find that the petition presents substantial scientific or commercial information indicating that the petitioned action may be warranted for the western ridged mussel due to potential threats associated with the following: Habitat destruction, modification, and curtailment of range; impacts to water quantity, water quality, and natural flow and temperature regimes; aquatic invasive species (Factor A); and disease (Factor C).

We find that the petition presents substantial scientific or commercial information indicating that regulatory mechanisms may be inadequate to ameliorate or reduce those threats (Factor D). We determined that the petition does not provide substantial documentation for the threats of overutilization of the species for commercial, recreational, scientific, or educational purposes (Factor B) and loss of genetic diversity (Factor E). The basis for our finding on this petition, and other information regarding our review of the petition, can be found as an appendix at http://www.regulations.gov under Docket No. FWS-R1-ES-2020-0150 under the Supporting Documents section.

Conclusion

On the basis of our evaluation of the information presented in the petitions under sections 4(b)(3)(A) and 4(b)(3)(D)(i) of the Act, we have determined that the petitions summarized above for Alexander Archipelago wolf and western ridged mussel present substantial scientific or commercial information indicating that the petitioned actions may be warranted. We are, therefore, initiating status reviews of these species to determine whether the actions are warranted under the Act. At the conclusion of the status reviews, we will issue findings, in accordance with section 4(b)(3)(B) of the Act, as to whether the petitioned actions are not warranted, warranted, or warranted but precluded by pending proposals to determine whether any species is an endangered species or a threatened species. In addition, we have determined that the petition summarized above for the golden-cheeked warbler does not present substantial scientific or commercial information indicating that the petitioned action may be warranted. We are, therefore, not initiating a status review of this species in response to this petition.

Authors

The primary authors of this document are staff members of the Ecological Services Program, U.S. Fish and Wildlife Service.

Authority

The authority for these actions is the Endangered Species Act of 1973, as amended (16 U.S.C. 1531 et seq.).

Martha Williams,
Principal Deputy Director Exercising the Delegated Authority of the Director, U.S. Fish and Wildlife Service.

[FR Doc. 2021-15497 Filed 7-26-21; 8:45 am]

BILLING CODE 4333-15-P